FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
February 1, 2015 Thru February 27, 2015
02/02/2015
20150311 | G | Desmarais Family Residuary Trust; Blue Crest Holding S.A.; Desmarais Family Residuary Trust.
20150312 | G | Baron Albert Frere; Blue Crest Holding S.A.; Baron Albert Frere.
20150502 | G | Chai Trust Company, LLC; Par Petroleum Corporation; Chai Trust Company, LLC.
20150503 | G | Roche Holding Ltd., Trophos SA; Roche Holding Ltd.
20150507 | G | Lindsay Goldberg III, LP; Golden Tree Offshore Intermediate Fund, LP; Lindsay Goldberg III, LP.
20150509 | G | New Mountain Partners IV, LP.; DFS Holding Company, Inc.; New Mountain Partners IV, L.P.
20150512 | G | Callaway Golf Company, TopGolf International, Inc.; Callaway Golf Company.
20150514 | G | Manulife Financial Corporation; New York Life Insurance Company; Manulife Financial Corporation.
20150518 | G | Wendel SA; IPMorgan Chase & Co.; Wendel SA.
02/03/2015
20150425 | G | Riverbed Parent, LLC; Riverbed Technology, Inc.; Riverbed Parent, LLC.
20150447 | G | Blue Harbour Active Ownership Partners, L.P.; Akamai Technologies, Inc.; Blue Harbour Active Ownership Partners, L.P.
20150475 | G | Trian Partners, L.P.; E.I. du Pont de Nemours and Company; Trian Partners, L.P.
20150486 | G | Trian Partners Strategic Investment Fund-A, L.P.; E.I. du Pont De Nemours and Company; Trian Partners Strategic Investment Fund-A, L.P.
20150513 | G | Impac Mortgage Holdings, Inc.; J. Paul Reddam; Impac Mortgage Holdings, Inc.
20150516 | G | ALLETE. Inc.; Excellere Capital Fund, L.P.; ALLETE, Inc.
20150524 | G | Roper Industries, Inc.; TA XI L.P.; Roper Industries, Inc.
02/04/2015
20150348 | G | Zoetis, Inc.; Abbott Laboratories; Zoetis, Inc.
20150522 | G | Tekrnira Pharmaceuticals Corporation; QVT Offshore Ltd.; Tekmira Pharmaceuticals Corporation.
20150523 | G | Tekmira Pharmaceuticals Corporation; Vivek Ramaswamy; Tekrnira Pharmaceuticals Corporation.
02/05/2015
20150326 | G | Oceaneering International, Inc.; Thomas S. Chance; Oceaneering International, Inc.
20150455 | G | Trident VI, L.P.; Sims Group LLC; Trident VI, L.P.
20150484 | G | Adventist Health System/West; Lodi Memorial Hospital Association, Inc.; Adventist Health System/West.
20150493 | G | ABRY Senior Equity IV, L.P.; Sandy Chau; ABRY Senior Equity IV, L.P.
20150495 | G | Littlejohn Fund V. L.P.; Michael Drusmsky; Littlejohn Fund V. L.P.
02/06/2015
20150527 | G | George M. Yates; Matador Resources Company; George M. Yates.
20150528 | G | Huron Consulting Group Inc.; JMI Equity Fund VII. L.P.; Huron Consulting Group Inc.
20150529 | G | Clearlake Capital Partners III, LP; Francisco Partners, L.P.; Clearlake Capital Partners III, LP.
20150534 | G | Kinder Morgan. Inc.; Mr. Harold Hamm; Kinder Morgan, Inc.
20150538 | G | Mr. Peter Flint; Zebra Holdco, Inc.; Mr Peter Flint.
20150553 | G | Mr. Richard Barton; Zebra Holdco, Inc.; Mr. Richard Barton.
20150554 | G | Mr. Lloyd Frink; Zebra Holdco, Inc.; Mr. Lloyd Frink.
02/09/2015
20150545 | G | Thoma Bravo Fund XI, L.P.; PowerPlan Holdings, Inc.; Thoma Bravo Fund XI, L.P.
20150548 | G | Insight Holdings (DE), Inc.; Research Now Group, Inc.; Insight Holdings (DE), Inc.
02/10/2015
20150547 | G | ATOS SE.; Xerox Corporation; ATOS SE.
02/11/2015
20150511 | G | AstraZeneca PLC; Bristol-Myers Squibb Company; AstraZeneca PLC.
20150532 | G | Mohawk Industries, Inc.; Stichting Adininistratiekantoor Patek; Mohawk Industries, Inc.
20150533 | G | Stichting Administratiekantoor Patek; Mohawk Industries, Inc.; Stichting Administratiekantoor Patek.
02/12/2015
20150536 | G | Cigna Corporation; QualCare Alliance Networks, Inc.; Cigna Corporation.
02/13/2015
20150549 | G | Madison Dearborn Capital Pamters VI-A, L.P.; Walgreens Boots Alliance, Inc.; Madison Dearborn Capital Pamters VI-A, L.P.
02/18/2015
20150551 | G | ICON plc; Vestar Capital Partners V. L.P.; ICON plc.
20150555 | G | Pacific Ethanol, Inc.; Aventine Renewable Enemy Holdings, Inc.; Pacific Ethanol, Inc.
20150559 | G | Ares Corporate Opportunities Fund IV, L.P.; ATD Corporation; Ares Corporate Opportunities Fund IV, L.P.
20150562 | G | Mitsubishi Gas Chemical Company, Inc.; JSP Corporation; Mitsubishi Gas Chemical Company, Inc.
20150567 | G | Berkshire Hathaway Inc.; Southwest Opportunity Partners, L.P.; Berkshire Hathaway Inc.
20150568 | G | Gildan Activewear Inc.; Barry T. Chouinard; Gildan Activewear Inc.
20150569 | G | Aquiline Financial Services Fund II L.P.; Senator Sidecar Master Fund LP; Aquiline Financial Services Fund II L.P.
20150571 | G | BATS Global Markets, Inc.; KCG Holdings, Inc.; BATS Global Markets, Inc.
20150572 | G | Daniel J. McKenna, III; Frederick E. Hitchcock, Jr.; Daniel J. McKenna, III.
20150573 | G | Harman International Industries, Incorporated; Symphony Teleca Corporation; Hannan International Industries, Incorporated.
20150574 | G | Snow Phipps II AIV, L.P.; Paul Milstein 1998 Continuation Trust C; Snow Phipps II AIV, L.P.
20150575 | G | Centene Corporation; Agate Resources, Inc.; Centene Corporation.
20150576 | G | Hahn & Co. Auto Holdings Co., Ltd.; Visteon Corporation; Hahn & Co. Auto Holdings Co., Ltd..
20150584 | G | Bain Capital Fund XI, L.P.; TI Fluid Systems Limited; Bain Capital Fund XI, L.P.
20150589 | G | King Digital Entertainment plc; Madrona Venture Fund III, L.P.; King Digital Entertainment plc.
20150592 | G | Canon Inc.; Axis AB; Canon Inc.
02/19/2015
20150487 | G | Zayo Group Holdings, Inc.; Great Hill Equity Partners III, L.P.; Zayo Group Holdings, Inc.
20150497 | Y | Navient Corporation; ORG Gila Investment, LP; Navient Corporation.
20150546 | G | Dakota Holdings, LLC; Mutual of Omaha Insurance Company; Dakota Holdings, LLC.
02/24/2015
20150537 | G | GUO GUANGCHANG; Meadowbrook Insurance Group, Inc.; GUO GUANGCHANG.
20150564 | G | William H. Gates, III; Sika AG; William H. Gates, III.
20150583 | G | The Chefs' Warehouse, Inc.; T.J. Foodservice Co., Inc.; The Chefs' Warehouse, Inc.
20150593 | G | Enbridge Energy Partners, L.P.; New Gulf Resources, LLC; Enbridge Energy Partners, L P.
20150595 | G | XL Group PLC; Catlin Group Limited; XL Group PLC.
20150596 | G | Audax Private Equity Fund IV, LP; Marwit Capital Partners II, LP; Audax Private Equity, Fund IV, LP.
20150598 | G | Macy's Inc.; Stichting Administratiekantoor Westend; Macy's Inc.
20150599 | G | Crestview Partners III, L.P.; Huizenga Automation Group, LLC; Crestview Partners III, L.P.
20150600 | G | Energy Transfer Equity LP; Regency Energy Partners LP; Energy Transfer Equity LP.
20150602 | G | Tronox Limited; FMC Corporation; Tronox Limited.
20150603 | G | Blue Holdings I, L.P.; The J.M. Smucker Company; Blue Holdings I, L.P.
20150604 | G | The J.M. Smucker Company; Blue Holdings I, L.P.; The J.M. Smucker Company.
20150606 | G | Macquarie Infrastructure Company LLC; ArcLight Energy Partners Fund III, L.P.; Macquarie Infrastructure Company LLC.
20150610 | G | Devon Energy Corporation; Coronado Midstream Holdings LLC; Devon Energy Corporation.
02/26/2015
20150611 | G | Insight Venture Partners IX, L.P.; E2open, Inc.; Insight Venture Partners IX, L.P.
20150615 | G | Cardinal Health, Inc.; Saji T. Daniel; Cardinal Health, Inc.
20150616 | G | AstraZeneca plc; Actavis plc; AstraZeneca plc.
20150619 | G | Infosys Limited; Panaya, Inc.; Infosys Limited.
20150620 | G | MaxLinear, Inc.; Entropic Communications, Inc.; MaxLinear, Inc.
02/27/2015
20150543 | G | Roper Industries, Inc.; Data Innovations LLC; Roper Industries, Inc.
20150544 | G | Duke Energy Corporation; Calpine Corporation; Duke Energy Corporation.
20150563 | G | Emesto Silvio Maurizio Bertarelli; SimpliVity Corporation; Ernesto Silvio Maurizio Bertarelli.
20150617 | G | TE Connectivity Ltd.; TechDevice Holdings LLC; TE Connectivity Ltd..
20150621 | G | Morgan Stanley Infrastnicture Partners II, LP; Eureka Hunter Holdings, LLC; Morgan Stanley Infrastructure Partners II, LP.
20150622 | G | Carl C. Icahn; Uni-Select Inc.; Carl C. Icahn.
20150623 | G | Delta Electronics, Inc.; Eltek ASA; Delta Electronics, Inc.
20150630 | G | Bertram Growth Capital II, L.P.; Clams Glassboards LLC; Bertram Growth Capital II, L.P.
20150631 | G | Cortec Group Fund V, L.P.; Kent P. Dauten; Cortec Group Fund V, L.P.
20150646 | G | Catalyst Fund Limited Partnership IV; Mehrdad Memarpouri; Catalyst Fund Limited Partnership IV.

FOR FURTHER INFORMATION CONTACT: Renee Chapman, Contact Representative, or Theresa Kingsberry, Legal Assistant, Federal Trade Commission, Premerger Notification Office, Bureau of Competition, Room CC-5301, Washington, DC 20024, (202) 326-3100.

By Direction of the Commission.
Donald S. Clark,
Secretary.

[FR Doc. 2015-05919 Filed 3-18-15; 8:45 am]

BILLING CODE 6750-01-M